DEPARTMENT OF COMMERCE

National Oceanic and Atmospheric Administration

50 CFR Part 300

[I.D. 102406A]

Fraser River Sockeye Salmon Fisheries; Inseason Orders

AGENCY: National Marine Fisheries Service (NMFS), National Oceanic and Atmospheric Administration (NOAA), Commerce.

ACTION: Temporary inseason orders; request for comments.

SUMMARY: NMFS publishes Fraser River salmon inseason orders to regulate salmon fisheries in U.S. waters. The orders were issued by the Fraser River Panel (Panel) of the Pacific Salmon Commission (Commission) and subsequently approved and issued by NMFS during the 2006 salmon fisheries within the U.S. Fraser River Panel Area. These orders established fishing dates, times, and areas for the gear types of U.S. treaty Indian and all citizen fisheries during the period the Panel exercised jurisdiction over these fisheries.

DATES: The effective dates for the inseason orders are set out in this document under the heading Inseason Orders.

Comments will be accepted through November 15, 2006.

ADDRESSES: Comments may be mailed to D. Robert Lohn, Regional Administrator, Northwest Region, NMFS, 7600 Sand Point Way N.E., BIN C15700-Bldg. 1, Seattle, WA 98115-0070. Comments can also be submitted via e-mail at Fraser2006salmon@noaa.gov, or through the internet at the Federal eRulemaking Portal: http://www.regulations.gov. Follow the instructions for submitting comments and include “I.D. 102406A” in the subject line of the message. Information relevant to this document is available for public review during business hours at the office of the Regional Administrator, Northwest Region, NMFS.

FOR FURTHER INFORMATION CONTACT: David Cantillon, (206) 526-4140.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F provide a framework for the implementation of certain regulations of the Commission and inseason orders of the Commission's Fraser River Panel for U.S. sockeye and pink salmon fisheries in the Fraser River Panel Area.

The regulations close the U.S. portion of the Fraser River Panel Area to U.S. sockeye and pink salmon fishing unless opened by Panel orders that are given effect by inseason regulations published by NMFS. During the fishing season, NMFS may issue regulations that establish fishing times and areas consistent with the Commission agreements and inseason orders of the Panel. Such orders must be consistent with domestic legal obligations and are issued by Regional Administrator, Northwest Region, NMFS. Official notification of these inseason actions is provided by two telephone hotline numbers described at 50 CFR 300.97(b)(1). The inseason orders are published in the Federal Register as soon as practicable after they are issued. Due to the frequency with which inseason orders are issued, publication of individual orders is impractical. Therefore, the 2006 orders are being published in this single document to avoid fragmentation.

Inseason Order

s

The following inseason orders were adopted by the Panel and issued for U.S. fisheries by NMFS during the 2006 fishing season. Each of the following inseason actions was effective upon announcement on telephone hotline numbers as specified at 50 CFR 300.97(b)(1); those dates and times are listed herein. The times listed are local times, and the areas designated are Puget Sound Management and Catch Reporting Areas as defined in the Washington State Administrative Code at Chapter 220-22:

Order No. 2006-01: Issued 12 p.m., July 27, 2006.

Treaty Indian Fisheries

Areas 4B, 5, and 6C: Open for drift gill nets from 12 p.m. (noon), Friday, July 28, 2006, to 12 p.m., Wednesday, August 2, 2006.

Order No. 2006-02: Issued 11:45 a.m., August 2, 2006.

Treaty Indian Fisheries

Areas 4B, 5, and 6C: Open period for drift gill nets from 12 p.m., Wednesday, August 2, 2006, to 12 p.m., Saturday, August 5, 2006.

Order No. 2006-03: Issued 11:45 a.m., August 4, 2006.

Treaty Indian Fisheries

Areas 4B, 5, and 6C: Open for drift gillnets from 12 p.m., Saturday, August 5, 2006 through 12 p.m., Wednesday, August 9, 2006.

Areas 6, 7, and 7A: Open to net fishing from 4 a.m. Sunday, August 6, 2006 to 9 p.m. Sunday, August 6, 2006.

All Citizen Fisheries

Areas 7 and 7A Purse Seine: Open to fishing from 8 a.m. until 6 p.m. on Monday, August 7, 2006.

Areas 7 and 7A Gillnet: Open to fishing from 2 p.m. until 11:59 p.m. (Midnight) on Monday, August 7, 2006.

Areas 7 and 7A Reef Net: Open to fishing from 10 a.m. until 8 p.m. on Monday, August 7, 2006.

Order No. 2006-04: Issued 11:45 a.m., August 8, 2006.

Treaty Indian Fisheries

Areas 4B, 5, and 6C: Open for drift gillnets from 12 p.m., Wednesday, August 9, 2006 to 12 p.m., Saturday, August 12, 2006.

Areas 6, 7, and 7A: Open to net fishing from 4 a.m., Thursday, August 10, 2006 to 10 p.m., Friday, August 11, 2006.

All Citizen Fisheries

Areas 7 and 7A Gillnet: Open to fishing from 8 a.m. until 11:59 p.m., Wednesday, August 9, 2006.

Areas 7 and 7A Purse Seine: Open to fishing from 5 a.m. until 9 p.m., August 9, 2006.

Areas 7 and 7A Reef Net: Open to fishing from 5 a.m. until 9 p.m., Wednesday, August 9, 2006.

Order No. 2006-05: Issued 11:45 a.m., August 11, 2006.

Treaty Indian Fisheries

Areas 4B, 5, and 6C: Open for drift gillnets from 12 p.m., Saturday, August 12, 2006, to 12 p.m., Wednesday, August 16, 2006.

Areas 6, 7, and 7A: Open to net fishing from 10 p.m., Friday, August 11, 2006, to 11:59 p.m., Sunday, August 13, 2006.

All Citizen Fisheries

Areas 7 and 7A Gillnet: Open to fishing from 8 a.m. until 11:59 p.m. on Monday, August 14 and on Tuesday, August 15, 2006.

Areas 7 and 7A Purse Seine: Open to fishing from 5 a.m. until 9 p.m. on Monday, August 14 and on Tuesday, August 15, 2006.

Areas 7 and 7A Reef Net: Open to fishing from 5 a.m. until 9 p.m. on Tuesday, August 15, and on Wednesday, August 16, 2006.

Order No. 2006-06: Issued 4 p.m., August 15, 2006.

Treaty Indian Fisheries

Areas 4B, 5, and 6C: Open for drift gillnets from 12 p.m., Wednesday, August 16, 2006, to 12 p.m., Saturday, August 19, 2006.

Areas 6, 7, and 7A: Open to net fishing from 4 a.m., Wednesday, August 16, 2006 to 10 p.m., Thursday, August 17, 2006.

Order No. 2006-07: Issued 12:30 p.m., August 17, 2006.

All Citizen Fisheries

Areas 7 and 7A Gillnet: Open to fishing from 8 a.m. until 11:59 p.m., Friday, August 18, 2006.

Areas 7 and 7A Purse Seine: Open to fishing from 5 a.m. until 9 p.m., Friday, August 18, 2006.

Areas 7 and 7A Reef Net: Open to fishing from 5 a.m. until 9 p.m., Saturday, August 19, 2006.

Order No. 2006-08: Issued 12:30 p.m., August 18, 2006.

Treaty Indian Fisheries

Areas 4B, 5, and 6C: Open for drift gillnets from 12 p.m., Saturday, August 19, 2006 to 12 p.m., Wednesday, August 23, 2006.

Areas 6, 7, and 7A: Open to net fishing from 4 a.m., Monday, August 21, 2006 to 10 p.m., Tuesday, August 22, 2006.

All Citizen Fisheries

Areas 7 and 7A Gillnet: Open to fishing from 8 a.m. until 11:59 p.m., Wednesday, August 23, 2006.

Areas 7 and 7A Purse Seine: Open to fishing from 5 a.m. until 9 p.m., Wednesday, August 23, 2006.

Areas 7 and 7A Reef Net: Open to fishing from 5 a.m. until 9 p.m., Sunday, August 20, 2006.

Order No. 2006-09: Issued 4:30 p.m., August 22, 2006.

All Citizen Fisheries

Areas 7 and 7A: Scheduled fishery opening for Wednesday, August 23, 2006 was rescinded.

Order No. 2006-10: Issued 12:30 p.m., August 25, 2006.

Treaty Indian Fishery

Areas 4B, 5, 6C: Open for fishing from 5 p.m. Friday, August 25, 2006 to 12:00, Wednesday, August 30, 2006.

Areas 6, 7, 7A: Open for fishing 4 a.m. Monday, August 28, 2006 to 10 p.m. Tuesday, August 29, 2006.

All Citizen Fisheries

Areas 7 and 7A Gillnet: Open to fishing from 9 a.m. Wednesday, August 30, 2006 to 1 a.m. Thursday, August 31, 2006.

Areas 7 and 7A Purse Seine: Open to fishing from 6 a.m. until 9 a.m., Wednesday, August 30, 2006.

Areas 7 and 7A Reef Net: Open to fishing from 5 a.m. until 9 p.m., Wednesday, August 30, 2006.

Order No. 2006-11: Issued 2:45 p.m. August 29, 2006.

Treaty Indian Fisheries

Areas 4B, 5, 6C: Open to fishing from 12 p.m., Wednesday, August 30, 2006 to 12 p.m., Saturday, September 2, 2006.

Order No. 2006-12: Issued 12:30 p.m. September 1, 2006.

Treaty Indian Fisheries

Areas 4B, 5, 6C: Open for fishing from 12 p.m., Saturday, September 2, 2006 to 12 p.m., Saturday, September 9, 2006.

Areas 6, 7, 7A: Open for net fishing 4 a.m. Tuesday, September 5, 2006 to 8 a.m. Wednesday, September 6, 2006.

All Citizen Fisheries

Areas 7 and 7A Gillnet: Open to fishing from 3 p.m. to 11 p.m. Wednesday, September 6, 2006.

Areas 7 and 7A Purse Seine: Open to fishing from 8 a.m. to 11 a.m., Wednesday, September 6, 2006.

Areas 7 and 7A Reef Net: Open to fishing from 5 a.m. to 9 p.m., Wednesday. September 6, 2006.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

Moreover, such prior notice and opportunity for public comment is impracticable because not closing the fishery upon attainment of the quota would allow the quota to be exceeded and thus compromise the conservation objectives established preseason, and it does not allow fishers appropriately controlled access to the available fish at the time they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: October 25, 2006.
Alan D. Risenhoover,
Director, Office of Sustainable Fisheries, National Marine Fisheries Service.

[FR Doc. E6-18292 Filed 10-30-06; 8:45 am]

BILLING CODE 3510-22-S